DEPARTMENT OF DEFENSE

Defense Acquisition Regulations System

48 CFR Part 212

RIN 0750-AG23

Defense Federal Acquisition Regulation Supplement; Acquisition of Commercial Items (DFARS Case 2008-D011)

AGENCY: Defense Acquisition Regulations System, Department of Defense (DoD).

ACTION: Interim rule; correction.

SUMMARY: DoD is making a correction to the interim rule published at 74 FR 34263 on July 15, 2009, which amended the Defense Federal Acquisition Regulation Supplement (DFARS) to address the conditions under which a time-and-materials or labor-hour contract may be used for the acquisition of commercial items. This correction clarifies the types of services to which the rule applies.

DATES: Effective date: July 21, 2009.

FOR FURTHER INFORMATION CONTACT: Ms. Angie Sawyer, Defense Acquisition Regulations System, OUSD (AT&L) DPAP (DARS), IMD 3D139, 3062 Defense Pentagon, Washington, DC 20301-3062. Telephone 703-602-8384; facsimile 703-602-7887.

SUPPLEMENTARY INFORMATION: The interim rule published at 74 FR 34263 on July 15, 2009, amended the DFARS to implement Sections 805 and 815 of the National Defense Authorization Act for Fiscal Year 2008 (Pub. L. 110-181). The rule specified the conditions under which a time-and-materials or labor-hour contract may be used for the acquisition of commercial items. This correction clarifies the types of services to which the rule applies, consistent with subsections (c)(1)(A) and (c)(1)(C)(i) of Section 805 of Public Law 110-181.

List of Subjects in 48 CFR Part 212

Government procurement.

Michele P. Peterson,
Editor, Defense Acquisition Regulations System.

Accordingly, the interim rule published at 74 FR 34263 on July 15, 2009, is corrected as follows:

PART 212—ACQUISITION OF COMMERCIAL ITEMS

1. The authority citation for 48 CFR Part 212 continues to read as follows:

Authority: 41 U.S.C. 421 and 48 CFR Chapter 1.

2. Section 212.207 is amended by revising paragraphs (b)(i) and (b)(iii)(A) to read as follows:

212.207 Contract type.

(b) * * *

(i) Services acquired for support of a commercial item, as described in paragraph (5) of the definition of commercial item at FAR 2.101 (41 U.S.C. 403(12)(E)).

* * * * *

(iii) * * *

(A) The services to be acquired are commercial services as defined in paragraph (6) of the definition of commercial item at FAR 2.101 (41 U.S.C. 403(12)(F));

* * * * *

[FR Doc. E9-17321 Filed 7-20-09; 8:45 am]

BILLING CODE 5001-08-P